POSTAL SERVICE

39 CFR Part 111

Domestic Mail Manual; Incorporation by Reference

AGENCY: Postal Service™.

ACTION: Final rule.

SUMMARY: The Postal Service announces the issuance of the Mailing Standards of the United States Postal Service, Domestic Mail Manual (DMM®) dated January 25, 2015, and its incorporation by reference in the Code of Federal Regulations.

DATES: This final rule is effective on March 16, 2015. The incorporation by reference of the DMM is approved by the Director of the Federal Register as of March 16, 2015.

FOR FURTHER INFORMATION CONTACT: Lizbeth Dobbins (202) 268-3789.

SUPPLEMENTARY INFORMATION: The most recent issue of the Domestic Mail Manual (DMM) is dated January 25, 2015. This issue of the DMM contains all Postal Service domestic mailing standards, and continues to: (1) Increase the user's ability to find information; (2) increase confidence that users have found all the information they need; and (3) reduce the need to consult multiple chapters of the Manual to locate necessary information. The issue dated January 25, 2015, sets forth specific changes, including new standards throughout the DMM to support the standards and mail preparation changes implemented since the version issued on June 24, 2012.

Changes to mailing standards will continue to be published through Federal Register notices and the Postal Bulletin, and will appear in the next online version available via the Postal Explorer® Web site at: http://pe.usps.com.

List of Subjects in 39 CFR Part 111

Administrative practice and procedure, Incorporation by reference.

In view of the considerations discussed above, the Postal Service hereby amends 39 CFR part 111 as follows:

PART 111—GENERAL INFORMATION ON POSTAL SERVICE

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. In § 111.3, amend paragraph (f) by revising the last entry in the table and adding a new entry at the end of the table to read as follows:

§ 111.3 Amendment to the Mailing Standards of the United States Postal Service, Domestic Mail Manual.

* * * * *

(f) * * *

Transmittal letter for issue | Dated | Federal Register publication
* * * * * * *
DMM 300 | June 24, 2012 | 77 FR 45246.
DMM | January 25, 2015 | [INSERT FR CITATION FOR THIS RULE].

§ 111.4 [Amended]

3. Amend § 111.4 by removing “June 24, 2012” and adding “March 16, 2015”.

Stanley F. Mires,
Attorney, Federal Requirements.

[FR Doc. 2015-05757 Filed 3-13-15; 8:45 am]

BILLING CODE 7710-12-P